DEPARTMENT OF DEFENSE

Office of the Secretary

Preparation of a Supplemental Environmental Impact Statement (SEIS) for the Airborne Laser (ABL) Program

AGENCY: Missile Defense Agency (MDA), Department of Defense.

ACTION: Notice of availability.

SUMMARY: MDA announces the availability of a draft supplement to the Final Environmental Impact Statement for the Program Definition and Risk Reduction (PDRR) Phase of the Airborne Laser Program (April 1997) (FEIS) and Record of Decision (September 1997). This draft Supplemental EIS (SEIS) analyzes proposed ABL Program test activities at Kirtland Air Force Base (KAFB), Holloman Air Force Base (HAFB), and White Sands Missile Range (WSMR), New Mexico; and Edwards Air Force Base (EAFB), Vandenberg Air Force Base (VAFB), and the adjacent Naval Air Warfare Center Weapons Division (NAWCWPNS) Sea Range, Point Mugu, California. The draft SEIS has been prepared in accordance with the National Environmental Policy Act, as amended (42 U.S.C. 4321, et seq.), and the Council on Environmental Quality Regulations for implementing the procedural provisions of NEPA (40 CFR Parts 1500-1508).

The ABL is a laser weapon system installed on a Boeing 747-400F aircraft capable of operating for extended periods of time. Up to two such aircraft would be developed. The ABL weapon system would include four lasers:

• Active Ranging System (ARS) Laser (a small carbon dioxide laser used to begin tracking a target),

• Track Illuminator Laser (TILL), (a solid state laser used to provide detailed tracking of a target),

• Beacon Illuminator Laser (BILL), (a solid state laser used to measure atmospheric distortion), and

• High-Energy Laser (HEL), (i.e., Chemical Oxygen-Iodine Laser (COIL), which is a chemical laser used to destroy a target.

An additional laser, a surrogate for the High-Energy Laser (SHEL), will be used during testing in place of the HEL. The SHEL is a low-power solid-state laser that would be used in both ground- and flight-testing. The ABL also would include an Infrared Search and Track sensor (IRST) (a passive infrared device used to identify heat sources). The 1997 PDRR ABL FEIS analyzed use of a COIL HEL on board an aircraft to destroy ballistic missiles on the boost phase. The Record of Decision (ROD) on the FEIS documented the Air Force's decision to proceed with PDRR phase ABL home base activities at EAFB, diagnostic test activities over WSMR, and expanded area test activities at VAFB and the NAWCWPNS Sea Range. Since completion of the FEIS, specific proposed test activities have been identified and additional information made available about the proposed testing that warrant preparation of a SEIS.

Comments

To obtain a copy of the supplement to the 1997 FEIS and Record of Decision, please write to: Mr. Charles J. Brown, Environmental Coordinator, Project Execution Division, Headquarters, Air Force Center for Environmental Excellence, 3207 Sidney Brooks Road, Building 532, Brooks AFB, TX 78235-5363 or a copy of it can also be accessed at “http://www.hqafcee.brooks.af.mil/ec/EIS/ABL/D-SEIS.pdf”. Individuals or organizations may provide comment on the supplement by sending written comments to: Ms. Pamelia Bain, Director, External Affairs, Missile Defense Agency, 7100 Defense Pentagon, Washington, DC 20301-7100.

Dated: September 16, 2002.
Patricia L. Toppings,
Alternate OSD Federal Register Liaison Officer, Department of Defense.

[FR Doc. 02-24187 Filed 9-20-02; 8:45 am]

BILLING CODE 5001-08-M